DEPARTMENT OF EDUCATION

National Assessment Governing Board; Meeting

AGENCY: National Assessment Governing Board, U.S. Department of Education.

ACTION: Notice of open and closed meeting sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than May 9, 2014. We will attempt to meet requests after this date but cannot guarantee availability of the requested accommodation. The meeting site is accessible to individuals with disabilities.

DATES: May 15-17, 2014.

Times

May 15: Committee Meetings

Assessment Development Committee: Closed Session: Noon-4:00 p.m.

Assessment Literacy Work Group: Open Session: 2:00 p.m.-4:00 p.m.

Executive Committee: Open Session: 4:30 p.m.-5:30 p.m.

May 16: Full Board and Committee Meetings

Full Board: Open Session: 8:30 a.m.-10:00 a.m. and 12:45 p.m.-4:45 p.m.

Committee Meetings:

Reporting and Dissemination Committee (R&D): Open Session: 10:00 a.m.-12:30 p.m.

Assessment Development Committee (ADC): Open Session: 10:00 a.m.-12:30 p.m.

Committee on Standards, Design and Methodology (COSDAM): Open Session: 10:00 a.m.-12:30 p.m.

May 17: Full Board and Committee Meetings

Nominations Committee: Closed Session: 7:30 a.m.-8:15 a.m.

Full Board: Open Session 8:30 a.m.-12:00 p.m.

Location: Omni Parker House, 60 School Street, Boston, MA 02108.

FOR FURTHER INFORMATION CONTACT: Munira Mwalimu, Executive Officer, National Assessment Governing Board, 800 North Capitol Street, NW., Suite 825, Washington, DC, 20002-4233, Telephone: (202) 357-6938.

SUPPLEMENTARY INFORMATION: The National Assessment Governing Board (Board) is established under section 302 of the National Assessment of Educational Progress Authorization Act.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public. On May 15, 2014, from 12:00 Noon to 4:00 p.m. the Assessment Development Committee will meet in closed session to review secure NAEP test questions in grades 4 and 8 for the 2015 operational assessments in reading and mathematics. The Committee will review and discuss secure test items that cannot be discussed in an open meeting to protect the confidentiality of the secure assessment materials. Premature disclosure of these results would significantly impede implementation of the NAEP assessment program, and is therefore protected by exemption 9(B) of section 552b(c) of Title 5 United States Code.

On May 15, 2014, the Assessment Development Committee will meet in closed session from 12:00 p.m. to 4:00 p.m. The Committee will review secure NAEP interactive computer tasks and items for the 2015 NAEP Science assessment at grades 4, 8, and 12. The Committee will review and discuss secure test items that cannot be discussed in an open meeting to protect the confidentiality of the secure assessment materials. Premature disclosure of these results would significantly impede implementation of the NAEP assessment program, and is therefore protected by exemption 9(B) of section 552b(c) of Title 5 United States Code.

The Board's Assessment Literacy Work Group will meet in an open session on May 15, 2014 from 2:00 p.m. to 4:00 p.m. to discuss strategies and timelines related to their work to promote better understanding of educational tests among parents and members of the general public.

The Board's Executive Committee will convene on May 15, 2014 in open session from 4:30 p.m. to 5:30 p.m. to review and discuss the May 15-17, 2014 Board meeting agenda, receive an update on the NAEP budget, assessment schedule, and reauthorization, and discuss Board Committee issues and challenges to be addressed by the respective Board Committees.

On May 16, 2014, the full Board will meet in open session from 8:30 a.m. to 10:00 a.m. The Board will review and approve the May 2014 Board meeting agenda and meeting minutes from the February 27-March 1, 2013 Quarterly Board meeting. This session will be followed by the oath of office administration for new and reappointed Board members from the previous nomination cycle. Welcome remarks will be provided by senior education policy makers representing Massachusetts and Boston schools. Following these remarks, the Executive Director of the Governing Board will provide a report, followed by updates on the National Center for Education Statistics (NCES) and NAEP from the Director of the Institute of Education Sciences (IES). Thereafter, the Board will recess for Committee meetings from 10:00 a.m. to 12:30 p.m.

The Reporting and Dissemination Committee, Assessment Development Committee, and the Committee on Standards, Design and Methodology (COSDAM) will meet in open session from 10:00 a.m. to 12:30 p.m.

Following the Committee meetings, the Board will convene in open session from 12:45 p.m. to 1:30 p.m. During this session, the full Board will receive a briefing on the results of the 2012 Programme for International Student Assessment (PISA) administered to 15-year-old students in 44 countries. From 1:45 p.m. to 4:45 p.m. the Board will be provided with an overview on the NAEP Technology and Engineering Literacy assessment, NAEP assessments in Puerto Rico, and strategies for extending NAEP reports. The May 16, 2014 session of the Board meeting is scheduled to adjourn at 4:45 p.m.

On May 17, 2014, the Nominations Committee will meet in closed session from 7:30 a.m. to 8:15 a.m. to discuss finalists for Board terms beginning October 1, 2014, as well as potential candidates for Board terms beginning October 1, 2015. The Committee's discussions pertain solely to internal personnel rules and practices of an agency and information of a personal nature where disclosure would constitute an unwarranted invasion of personal privacy. As such, the discussions are protected by exemptions 2 and 6 of section 552b(c) of Title 5 of the United States Code.

On May 17, 2014, the Board will meet in open session from 8:30 a.m. to 12:00 p.m. to discuss Board initiatives and ongoing work to include the NAEP Schedule of Assessments and NAEP's future role. The Board is scheduled to receive reports from the standing Committees and take action on Committee recommendations from 10:15 a.m. to 12:00 p.m. The May 17, 2014 meeting is scheduled to adjourn at 12:00 p.m.

A verbatim transcript of the meeting, consistent with the policy of section 5 U.S.C. 552b(c) will be available to the public within 14 days of the meeting. Records are kept of all Board proceedings and are available for public inspection at the U.S. Department of Education, National Assessment Governing Board, Suite #825, 800 North Capitol Street NW., Washington, DC, 20002, from 9:00 a.m. to 5:00 p.m. Eastern Time, Monday through Friday.

Electronic Access to This Document: You may view this document, as well as all other documents of this Department published in the Federal Register, in text or Adobe Portable Document Format (PDF) on the Internet at http://www.ed.gov/news/fedregister.

To use PDF you must have Adobe Acrobat Reader, which is available free at http://get.adobe.com/reader. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

Dated: April 25, 2014.
Mary Crovo,
Deputy Executive Director, National Assessment Governing Board (NAGB), U.S. Department of Education.

[FR Doc. 2014-09872 Filed 4-29-14; 8:45 am]

BILLING CODE 4000-01-P